ENVIRONMENTAL PROTECTION AGENCY

40 CFR Part 63

[EPA-HQ-OAR-2015-0747; FRL-9941-59-OAR]

RIN 2060-AS13

Oil and Natural Gas Sector: National Emission Standards for Hazardous Air Pollutants; Extension of Comment Period

AGENCY: Environmental Protection Agency (EPA).

ACTION: Request for information; extension of comment period.

SUMMARY: On November 27, 2015, the Environmental Protection Agency (EPA) requested information related to hazardous air pollutant emissions from sources in the oil and natural gas production and natural gas transmission and storage segments of the oil and natural gas sector. The deadline to respond to our request was January 26, 2016. In response to requests from several stakeholders, the EPA is extending the period to respond to our request for information to March 11, 2016.

DATES: The public comment period for the request for information published in the Federal Register on November 27, 2015 (80 CFR 74068), is being extended. Written comments must be received on or before March 11, 2016.

ADDRESSES: Comments. Submit your comments, identified by Docket ID No. EPA-HQ-OAR-2015-0747, to the Federal eRulemaking Portal: http://www.regulations.gov. Follow the online instructions for submitting comments. Once submitted, comments cannot be edited or withdrawn. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about CBI or multimedia submissions, and general guidance on making effective comments, please visit http://www2.epa.gov/dockets/commenting-epa-dockets.

Docket. Publicly available documents relevant to this action are available for public inspection either electronically at http://www.regulations.gov or in hard copy at the EPA Docket Center, Room 3334, 1301 Constitution Avenue NW., Washington, DC. The Public Reading Room is open from 8:30 a.m. to 4:30 p.m., Monday through Friday, excluding legal holidays. A reasonable fee may be charged for copying. The official public docket for this rulemaking is Docket ID No. EPA-HQ-OAR-2015-0747.

World Wide Web. The EPA Web site for this rulemaking is at http://www3.epa.gov/airquality/oilandgas/actions.html.

FOR FURTHER INFORMATION CONTACT: For further information about this action, contact Mr. Matthew Witosky, Sector Policies and Programs Division (E143-05), Office of Air Quality Planning and Standards, Environmental Protection Agency, Research Triangle Park, North Carolina 27711, telephone number: (919) 541-2865; facsimile number: (919) 541-3740; email address: witosky.matthew@epa.gov.

SUPPLEMENTARY INFORMATION:

Comment Period

After considering the requests to extend the public comment period, the EPA has decided to extend the public comment period until March 11, 2016. This extension will provide the additional time requested by the public to review the request and gather data to respond.

Dated: January 14, 2016.
Stephen D. Page,
Director, Office of Air Quality Planning and Standards.

[FR Doc. 2016-01508 Filed 1-25-16; 8:45 am]

BILLING CODE 6560-50-P